DEPARTMENT OF THE INTERIOR

National Park Service

[NPS-WASO-NAGPRA-NPS0038694; PPWOCRADN0-PCU00RP14.R50000]

Notice of Intended Repatriation: U.S. Army Corps of Engineers, Sacramento District, Sacramento, CA

AGENCY: National Park Service, Interior.

ACTION: Notice.

SUMMARY: In accordance with the Native American Graves Protection and Repatriation Act (NAGPRA), the U.S. Army Corps of Engineers, Sacramento District intends to repatriate certain cultural items that meet the definition of unassociated funerary objects and that have a cultural affiliation with the Indian Tribes or Native Hawaiian organizations in this notice.

DATES: Repatriation of the cultural items in this notice may occur on or after October 15, 2024.

ADDRESSES: Dr. Michelle Fitzgerald, Physical Anthropologist and Sacramento District NAGPRA Liaison, U.S. Army Corps of Engineers, Sacramento District, Planning Division, 1325 J. Street, Sacramento, CA 95814, telephone (916) 557-7114, email Michelle.K.Fitzgerald@usace.army.mil.

SUPPLEMENTARY INFORMATION: This notice is published as part of the National Park Service's administrative responsibilities under NAGPRA. The determinations in this notice are the sole responsibility of the U.S. Army Corps of Engineers, Sacramento District, and additional information on the determinations in this notice, including the results of consultation, can be found in the summary or related records. The National Park Service is not responsible for the determinations in this notice.

Abstract of Information Available

A total of 297 cultural items from 17 sites and unspecified locations located within the U.S. Army Corps of Engineers, Sacramento District Black Butte Dam and Lake operating project in Glenn and Tehama counties, California have been requested for repatriation. These cultural items are described below.

Glenn County

One hundred thirty-three cultural items have been requested for repatriation. The 133 unassociated funerary objects are: one faunal bone, one metal fragment, one metal nail, one drilled Olivella shell fragment, one chipped stone, two pieces of groundstone, two shell fragments, two unmodified stones, four blue beads, four pieces of debitage, eight seed beads, 24 Olivella shell beads, and 82 shell disk beads. The unassociated funerary objects were removed from site CA-GLE-10/H (Brownell Indian Cemetery) at the Sacramento District operating project at Black Butte Dam and Lake in Glenn County, CA. Site CA-GLE-10/H is a Native American cemetery that was utilized into the late-1930s. Black Butte Dam and Lake staff, Sacramento District personnel, contractors, and/or park visitors collected these cultural items on unknown dates. The unassociated funerary objects were stored at the Black Butte Dam and Lake Project Office prior to being transferred to the Veterans Curation Program facility in San Mateo, CA in 2018. The unassociated funerary objects currently remain at the Veterans Curation Program facility.

Two cultural items have been requested for repatriation. The two unassociated funerary objects are one pestle fragment and one projectile point (missing). The two unassociated funerary objects were removed from site CA-GLE-22 at the Sacramento District operating project at Black Butte Dam and Lake in Glenn County, CA. The pestle was collected in 1960 by archaeologists affiliated with San Francisco State College, now San Francisco State University. The pestle currently remains at San Francisco State University where it has been housed since 1960. The projectile point was removed in 1983 during survey and excavation work done by archaeologists affiliated with California State University, Sacramento under contract with the Sacramento District. California State University, Sacramento has reported this projectile point as missing.

Six cultural items have been requested for repatriation. The six unassociated funerary objects are column samples. The unassociated funerary objects were removed from site CA-GLE-25 at the Sacramento District operating project at Black Butte Dam and Lake in Glenn County, CA. The unassociated funerary objects were removed in 1983 during survey and excavation work done by archaeologists affiliated with California State University, Sacramento under contract with the Sacramento District. The unassociated funerary objects currently remain at California State University, Sacramento.

One cultural item has been requested for repatriation. The one unassociated funerary object is a projectile point. The unassociated funerary object was removed from site CA-GLE-22 or site CA-GLE-35 at the Sacramento District operating project at Black Butte Dam and Lake located in Glenn County, CA by Black Butte Dam and Lake staff, Sacramento District personnel, contractors, and/or park visitors on an unknown date. This unassociated funerary object was stored at the Black Butte Dam and Lake Project Office prior to being transferred to the Veterans Curation Program facility in San Mateo, CA in 2018. The unassociated funerary object currently remains at the Veterans Curation Program facility.

Ten cultural items have been requested for repatriation. The 10 unassociated funerary objects are: three pieces of debitage (one is missing), three lithic tools (one is missing), and four projectile points (one is missing). The unassociated funerary objects were removed from site CA-GLE-35 at the Sacramento District operating project at Black Butte Dam and Lake in Glenn County, CA. One piece of debitage, one lithic tool, and one projectile point were removed in 1983 during survey and excavation work done by archaeologists affiliated with California State University, Sacramento under contract with the Sacramento District. California State University, Sacramento has reported these three unassociated funerary objects as missing. Two pieces of debitage, two lithic tools, and three projectile points were removed by Black Butte Dam and Lake staff, Sacramento District personnel, contractors, and/or park visitors on an unknown date. The unassociated funerary objects were stored at the Black Butte Dam and Lake Project Office prior to being transferred to the Veterans Curation Program facility in San Mateo, CA in 2018. The seven unassociated funerary objects currently remain at the Veterans Curation Program facility.

Five cultural items have been requested for repatriation. The five unassociated funerary objects are: one crescent, one piece of debitage (missing), one worked stone (missing), and two projectile points (one missing). The unassociated funerary objects were removed from site CA-GLE-306 at the Sacramento District operating project at Black Butte Dam and Lake in Glenn County, CA. One piece of debitage, one worked stone, and one projectile point were removed in 1983 during survey and excavation work done by archaeologists affiliated with California State University, Sacramento under contract with the Sacramento District. California State University, Sacramento has reported these three unassociated funerary objects as missing. One crescent and one projectile point were removed by Black Butte Dam and Lake staff, Sacramento District personnel, contractors, and/or park visitors on unknown dates. The unassociated funerary objects were stored at the Black Butte Dam and Lake Project Office prior to being transferred to the Veterans Curation Program facility in San Mateo, CA in 2018. The two unassociated funerary objects currently remain at the Veterans Curation Program facility.

One cultural item has been requested for repatriation. The unassociated funerary object is a historic-era bottle (missing). The unassociated funerary object was removed from site CA-GLE-317 at the Sacramento District operating project at Black Butte Dam and Lake in Glenn County, CA. The unassociated funerary object was removed in 1983 during survey and excavation work done by archaeologists affiliated with California State University, Sacramento under contract with the Sacramento District. California State University, Sacramento has reported this unassociated funerary object as missing.

One cultural item has been requested for repatriation. The unassociated funerary object is one flaked stone/core (missing). The unassociated funerary object was removed from site CA-GLE-321 at the Sacramento District operating project at Black Butte Dam and Lake in Glenn County, CA. The unassociated funerary object was removed in 1983 during survey and excavation work done by archaeologists affiliated with California State University, Sacramento under contract with the Sacramento District. California State University, Sacramento has reported this unassociated funerary object as missing.

Two cultural items have been requested for repatriation. The unassociated funerary objects are one projectile point (missing) and one unmodified obsidian cobble (missing). The unassociated funerary objects were removed from site CA-GLE-322 at the Sacramento District operating project at Black Butte Dam and Lake in Glenn County, CA. The unassociated funerary objects were removed in 1983 during survey and excavation work done by archaeologists affiliated with California State University, Sacramento under contract with the Sacramento District. California State University, Sacramento has reported these unassociated funerary objects as missing.

Three cultural objects have been requested for repatriation. The unassociated funerary objects are three projectile points. The unassociated funerary objects were removed from unspecified locations within the Sacramento District operating project at Black Butte Dam and Lake in Glenn County, CA by Black Butte Dam Lake staff, Sacramento District personnel, contractors, and/or park visitors on unknown dates. The unassociated funerary objects were stored at the Black Butte Dam and Lake Project Office prior to being transferred to the Veterans Curation Program facility in San Mateo, CA in 2018. The unassociated funerary objects currently remain at the Veterans Curation Program facility.

Tehama County

One lot of cultural items have been requested for repatriation. The unassociated funerary items are one lot of faunal remains. The unassociated funerary objects were removed from site CA-TEH-10/TEH-Burris Creek at the Sacramento District operating project at Black Butte Dam and Lake in Tehama County, CA by Black Butte Dam and Lake staff, Sacramento District personnel, contractors, and/or park visitors on unknown dates. The unassociated funerary objects were stored at the Black Butte Dam and Lake Project Office prior to being transferred to the Veterans Curation Program facility in San Mateo, CA in 2018. The unassociated funerary objects currently remain at the Veterans Curation Program facility.

Forty-two cultural items have been requested for repatriation. The 42 unassociated funerary objects are 42 column samples. The unassociated funerary objects were removed from site CA-TEH-231 at the Sacramento District operating project at Black Butte Dam and Lake in Tehama County, CA. The unassociated funerary objects were removed in 1983 during survey and excavation work done by archaeologists affiliated with California State University, Sacramento under contract with the Sacramento District. The unassociated funerary objects currently remain at California State University, Sacramento.

Twenty-six cultural items have been requested for repatriation. The 26 unassociated funerary objects are: one chert flake, one handstone (missing), and 24 column samples. The unassociated funerary objects were removed from site CA-TEH-1317 at the Sacramento District operating project at Black Butte Dam and Lake in Tehama County, CA. The chert flake was removed by Black Butte Dam and Lake staff, Sacramento District personnel, contractors, and/or park visitors on an unknown date. This unassociated funerary object was stored at the Black Butte Dam and Lake Project Office prior to being transferred to the Veterans Curation Program facility in San Mateo, CA in 2018. The chert flake currently remains at the Veterans Curation Program facility. The handstone and column samples were removed in 1983 during survey and excavation work done by archaeologists affiliated with California State University, Sacramento under contract with the Sacramento District. The column samples currently remain at California State University, Sacramento while the handstone has been reported by the University as missing.

Three cultural items have been requested for repatriation. The three unassociated funerary objects are one glass sherd (missing) and two historic-era ceramic sherds (missing). The unassociated funerary objects were removed from site CA-TEH-1318 at the Sacramento District operating project at Black Butte Dam and Lake in Tehama County, CA. The unassociated funerary objects were removed in 1983 during survey and excavation work done by archaeologists affiliated with California State University, Sacramento under contract with the Sacramento District. California State University, Sacramento has reported these three unassociated funerary objects as missing.

Three cultural items have been requested for repatriation. The three unassociated funerary items are column samples. The unassociated funerary objects were removed from site CA-TEH-1321 at the Sacramento District operating project at Black Butte Dam and Lake in Tehama County, CA. The unassociated funerary objects were removed in 1983 during survey and excavation work done by archaeologists affiliated with California State University, Sacramento under contract with the Sacramento District. The unassociated funerary objects currently remain at California State University, Sacramento.

One cultural item has been requested for repatriation. The one unassociated funerary object is an obsidian biface (missing). The unassociated funerary object was removed from site CA-TEH-1322 at the Sacramento District operating project at Black Butte Dam and Lake in Tehama County, CA. The unassociated funerary object was removed in 1983 during survey and excavation work done by archaeologists affiliated with California State University, Sacramento under contract with the Sacramento District. California State University, Sacramento has reported this unassociated funerary object as missing.

One cultural item has been requested for repatriation. The one unassociated funerary object is an obsidian projectile point (missing). The unassociated funerary object was removed from site CA-TEH-1323 at the Sacramento District operating project at Black Butte Dam and Lake in Tehama County, CA. The unassociated funerary object was removed in 1983 during survey and excavation work done by archaeologists affiliated with California State University, Sacramento under contract with the Sacramento District. California State University, Sacramento has reported this unassociated funerary object as missing.

One cultural item has been requested for repatriation. The one unassociated funerary object is a chert flake. The unassociated funerary object was removed from site CA-TEH-1326 at the Sacramento District operating project at Black Butte Dam and Lake in Tehama County, CA by Black Butte Dam and Lake staff, Sacramento District personnel, contractors, and/or park visitors on an unknown date. The unassociated funerary object was stored at the Black Butte Dam and Lake Project Office prior to being transferred to the Veterans Curation Program facility in San Mateo, CA in 2018. The unassociated funerary object currently remains at the Veterans Curation Program facility.

One cultural item has been requested for repatriation. The one unassociated funerary object is a piece of debitage (missing). The unassociated funerary object was removed from site CA-TEH-1328 at the Sacramento District operating project at Black Butte Dam and Lake in Tehama County, CA. The unassociated funerary object was removed in 1983 during survey and excavation work done by archaeologists affiliated with California State University, Sacramento under contract with the Sacramento District. California State University, Sacramento has reported this unassociated funerary object as missing.

Unspecified County (Glenn or Tehama)

Fifty-four cultural items have been requested for repatriation. The 54 unassociated funerary objects are: one chert flake, one projectile point, seven Olivella shell beads, and 45 shell disk beads. The unassociated funerary objects were removed from unspecified locations within the Sacramento District operating project at Black Butte Dam and Lake in Glenn and Tehama counties, CA by Black Butte Dam and Lake staff, Sacramento District personnel, contractors, and/or park visitors on unknown dates. The unassociated funerary objects were stored at the Black Butte Dam and Lake Project Office prior to being transferred to the Veterans Curation Program facility in San Mateo, CA in 2018. The unassociated funerary objects currently remain at the Veterans Curation Program facility.

No information is available that would indicate that any of the cultural items in this notice have been treated with potentially hazardous substances.

Determinations

The U.S. Army Corps of Engineers, Sacramento District has determined that:

• The 297 unassociated funerary objects described in this notice are reasonably believed to have been placed intentionally with or near human remains, and are connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• There is a reasonable connection between the cultural items described in this notice and the Paskenta Band of Nomlaki Indians of California.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after October 15, 2024. If competing requests for repatriation are received, the U.S. Army Corps of Engineers, Sacramento District must determine the most appropriate requestor prior to repatriation. Requests for joint repatriation of the cultural items are considered a single request and not competing requests. The U.S. Army Corps of Engineers, Sacramento District is responsible for sending a copy of this notice to the Indian Tribes and Native Hawaiian organizations identified in this notice and to any other consulting parties.

Authority: Native American Graves Protection and Repatriation Act, 25 U.S.C. 3004 and the implementing regulations, 43 CFR 10.9.

Dated: September 5, 2024.
Melanie O'Brien,
Manager, National NAGPRA Program.

[FR Doc. 2024-20878 Filed 9-12-24; 8:45 am]

BILLING CODE 4312-52-P